CORPORATION FOR NATIONAL AND COMMUNITY SERVICE

Sunshine Act Meeting Notice

The Board of Directors of the Corporation for National and Community Service gives notice of the following meeting:

DATE AND TIME: Tuesday, February 8, 2011, 11 a.m.-12:15 p.m.

PLACE: Corporation for National and Community Service, 1201 New York Avenue, NW., Suite 8312, Washington, DC 20525 (Please go to 10th floor reception area for escort).

CALL-IN INFORMATION: This meeting is available to the public through the following toll-free call-in number: 800-857-9872 conference call access code number 5898. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 888-568-0906. The end replay date: February 15, 2011, 10:59 p.m. (CT).

STATUS: Open.

Matters To Be Considered

I. Chair's Opening Comments

II. Consideration of Previous Meeting's Minutes

III. CEO Report

IV. Committee Reports:

a. Oversight, Governance and Audit Committee

b. External Relations Committee

c. Program, Budget and Evaluation Committee

V. Consideration of the Proposed 2011-2015 Strategic Plan

VI. Public Comments

Members of the public who would like to learn more about the proposed strategic plan and the development process should visit the CNCS Web site http://www.nationalservice.gov/about/focus_areas/index.asp where the draft document will be posted in advance of the meeting.

Members of the public who would like to comment on the business of the Board may do so in writing or in person. Individuals may submit written comments to esamose@cns.gov subject line: FEB 2011 CNCS BOARD MEETING. Individuals attending the meeting in person who would like to comment will be asked to sign-in upon arrival. Comments should be no more than 2 minutes.

REASONABLE ACCOMMODATIONS: The Corporation for National and Community Service provides reasonable accommodations to individuals with disabilities where appropriate. Anyone who needs an interpreter or other accommodation should notify Ida Green at igreen@cns.gov or 202-606-6861 by 5 p.m., February 4, 2011.

CONTACT PERSON FOR MORE INFORMATION: Emily Samose, Strategic Advisor for Board Engagement, Corporation for National and Community Service, 9th Floor, Room 9613C, 1201 New York Avenue, NW., Washington, DC 20525. Phone (202) 606-7564. Fax (202) 606-3460. TDD: (202) 606-3472. E-mail: esamose@cns.gov.

Dated: February 1, 2011.
Wilsie Y. Minor,
Acting General Counsel.

[FR Doc. 2011-2556 Filed 2-1-11; 4:15 pm]

BILLING CODE 6050-$$-P